DEPARTMENT OF DEFENSE

Office of the Secretary

[Docket ID: DoD-2013-OS-0216]

Privacy Act of 1974; System of Records

AGENCY: Defense Health Agency, DoD.

ACTION: Notice to amend nineteen Record Systems.

SUMMARY: The TRICARE Management Activity (TMA) transitioned to the Defense Health Agency (DHA) effective October 1, 2013. The Defense Health Agency is now realigning the System of Records Notices (SORNS) to the Defense Health Agency's compilation of Privacy Act SORNS. The realignment of the nineteen system identifiers reflect the new numbering system that will be used by the Defense Health Agency.

DATES: This proposed action will be effective on December 19, 2013 unless comments are received which result in a contrary determination. Comments will be accepted on or before December 18, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Linda S. Thomas, Director, Defense Health Agency Privacy and Civil Liberties Office, Defense Health Agency Headquarters, 7700 Arlington Boulevard, Suite 5101, Falls Church, VA 22042-5101, or by phone at (703) 681-7500.

SUPPLEMENTARY INFORMATION: The Defense Health Agency notices for systems of records subject to the Privacy Act of 1974 (5 U.S.C. 552a), as amended, have been published in the Federal Register and are available from the address in FOR FURTHER INFORMATION CONTACT or at the Defense Privacy and Civil Liberties Office Web site http://dpclo.defense.gov/privacy/SORNs/component/osd/index.html. The proposed amendments are not within the purview of subsection (r) of the Privacy Act (5 U.S.C. 552a), as amended, which would require the submission of a new or altered system report for each system. The specific changes to the record systems being amended are set forth below.

Dated: November 12, 2013.
Aaron Siegel,
Alternate OSD Federal Register Liaison Officer, Department of Defense.

Defense Health Agency

How Systems of Records Are Designated

In the Department of Defense (DoD), systems of records are grouped by the DoD Component responsible for that system and its system of records notice. Each DoD Component has an assigned letter denominator for systems of records for which it is responsible. The Defense Health Agency, which was established on October 1, 2013, is assigned `E' as its letter denominator.

Defense Health Agency Privacy Act Systems of Records Notices
System identifier: From: | System identifier: To: | System name
DHA 04 DoD | EDHA 04 DoD | Defense Bone Marrow Donor Program.
DHA 05 | EDHA 05 | Military Deployment Issues Files.
DHA 06 | EDHA 06 | Designated Provider Managed Care System Records.
DHA 07 | EDHA 07 | Military Health Information System.
DHA 08 | EDHA 08 | Health Affairs Survey and Study Data Base.
DHA 09 | EDHA 09 | Medical Credentials/Risk Management Analysis System (CCQAS).
DHA 10 | EDHA 10 | DoD Women, Infants, and Children Overseas Participant Information Management System.
DHA 11 | EDHA 11 | Defense Medical Human Resources System internet (DMHRSi).
DHA 12 | EDHA 12 | Third Party Collection System.
DHA 16 DoD | EDHA 16 DoD | Special Needs Program Management Information System (SNPMIS) Records.
DHA 17 DoD | EDHA 17 DoD | Defense Nutrition Management Information System (NMIS).
DHA 18 | EDHA 18 | Research Regulatory Oversight Records.
DHA 19 | EDHA 19 | Defense Occupational & Environmental Health Readiness System—Industrial Hygiene (DOEHRS-IH).
DHA 23 | EDHA 23 | Pharmacy Data Transaction Service (PDTS).
DHA 24 | EDHA 24 | Defense and Veterans Eye Injury and Vision Registry (DVEIVR).
DTMA 01 | EDTMA 01 | Health Benefits Authorization Files.
DTMA 02 | EDTMA 02 | Medical/Dental Care and Claims Inquiry Files.
DTMA 03 | EDTMA 03 | Legal Opinion Files.
DTMA 04 | EDTMA 04 | Medical/Dental Claim History Files.

[FR Doc. 2013-27469 Filed 11-15-13; 8:45 am]

BILLING CODE 5001-06-P